DEPARTMENT OF JUSTICE

Antitrust Division

Notice Pursuant to the National Cooperative Research and Production Act of 1993; Mobile Wireless Internet Forum

Notice is hereby given that, on November 13, 2000, pursuant to section 6(a) of the National Cooperative Research and Production Act of 1993, 15 U.S.C. 4301 et seq. (“the Act”), Mobile Wireless Internet Forum has filed written notifications simultaneously with the Attorney General and the Federal Trade Commission disclosing changes in its membership status. The notifications were filed for the purpose of extending the Act's provisions limiting the recovery of antitrust plaintiffs to actual damages under specified circumstances. Specifically, Adaptive Telecom, Campbell, CA; Airvana, Waltham, MA; Alteon WebSystems, San Jose, CA; Avian Communications, Marlborough, MA; BT Wireless, Martlesham Health, Ipswich, United Kingdom; CoSine Communications, Redwood City, CA; DoCoMo Communications Labs, San Jose, CA; Flash Networks, Holmdel, NJ; Halfdome Systems, Sunnyvale, CA; Hitachi, Santa Clara, CA; LG Telecom, San Diego, CA; Libertel, Maastricht, Limburg, The Netherlands; Livemind, Inc., San Francisco, CA; Matsushita Communications Industrial, Yokohama, Japan; Megisto Systems, Germantown, MD; Mitsubishi Electric Corporation, Kamakura, Kanagawa, Japan; Morphics Technology, Campbell, CA; Nettle Network Technologies, Arlington, VA; NuLink, Wilmington, CA; phone.com, Temple Terrace, FL; Redback News, Sunnyvale, CA; Sony, Tokyo, Japan; T-Mobil, Bonn, Germany; Telcom New Zealand, Wellington, New Zealand; Teledesic, Bellevue, WA; Trillium Digital Systems, Los Angeles, CA; UUNET a Worldcom Company, Purchase, NY; Verizon Wireless, Walnut Creek, CA; Water Cove Networks, Inc., Burlington, MA; White.Cell, Inc., Rosh-Ha'ayin, Israel; Wind, Rome, Italy; and Wysdom, Richmond Hill, Ontario, Canada have been added as parties to this venture.

No other changes have been made in either the membership or planned activity of the group research project. Membership in this group research project remains open, and Mobile Wireless Internet Forum intends to file additional written notification disclosing all changes in membership.

On May 25, 2000, Mobile Wireless Internet Forum filed its original notification pursuant to section 6(a) of the Act. The Department of Justice published a notice in the Federal Register pursuant to section 6(b) of the Act on August 11, 2000 (65 FR 49264).

Constance K. Robinson,
Director of Operations, Antitrust Division.

[FR Doc. 01-934 Filed 1-10-01; 8:45 am]

BILLING CODE 4410-11-M